DEPARTMENT OF JUSTICE

Antitrust Division

Notice Pursuant to the National Cooperative Research and Production Act of 1993—The Open Group, L.L.C.

Notice is hereby given that, on September 8, 2014, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances.

Specifically, Adservio, Paris, FRANCE; aicas GmbH, Karlsruhe, GERMANY; 24 Learning Beijing Hua Fang Ji Ye Technology Co., Ltd., Beijing, PEOPLE'S REPUBLIC OF CHINA; bitil.com, Avellino, ITALY; Central Bank of Republic of Turkey, Ankara, TURKEY; ECIS Consultants Limited, Oxford, UNITED KINGDOM; Enterprise Architects LTD, London, UNITED KINGDOM; Firebrand Training Limited, London, UNITED KINGDOM; Fujitsu Limited, Chiyoda-ku, JAPAN; Gelder Gringas and Associates, Ottawa, CANADA; Maryville Data Systems, Inc., St. Louis, MO; SE7Ti Serviços de Tecnologia da Informação, Rio de Janeiro, BRAZIL; Sierra Nevada Corporation, Sparks, NV; Silosmashers, Inc., Fairfax, VA, Technology Service Corporation, Turnbull, CT; Tonex, Inc., Dallas, TX; and Visual Paradigm, Kowloon, HONG KONG-CHINA, have been added as parties to this venture.

Also, 1Plug Corporation, Alameda, CA; Baker Hughes, Sugar Land, TX; Dirogsa, Lima, PERU; EA Fellows ApS, Dragor, DENMARK; Enterprise Architecture Consulting Ltd, Oxford, UNITED KINGDOM; Enterprise Architecture Solutions Ltd., London, UNITED KINGDOM; Gobuchi, Dubai, UNITED ARAB EMIRATES; Litmus Group (Pty) Ltd, Sydney, AUSTRALIA; Net Security Training Ltd, Wembley, UNITED KINGDOM; Novay, Enschede, THE NETHERLANDS; Raymond James, St. Petersburg, FL; Standard Insurance Company, Portland, OR; and VisioTech Solutions Pvt. Ltd., Bahawalpur, PAKISTAN, have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on June 16, 2014. A notice was published in the Federal Register pursuant to Section 6(b) of the Act on July 3, 2014 (79 FR 38071).

Patricia A. Brink,
Director of Civil Enforcement, Antitrust Division.

[FR Doc. 2014-23146 Filed 9-26-14; 8:45 am]

BILLING CODE P